DEPARTMENT OF DEFENSE

Department of the Army

[Docket ID: USA-2024-HQ-0006]

Proposed Collection; Comment Request

AGENCY: U.S. Army Corps of Engineers (USACE), Department of the Army, Department of Defense (DoD).

ACTION: 60-Day information collection notice.

SUMMARY: In compliance with the Paperwork Reduction Act of 1995, the USACE announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 24, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Corps of Engineers Alaska District 2204 3rd St, Elmendorf AFB, AK 99506, ATTN: Ms. Megan Green, or call 907-753-2524.

SUPPLEMENTARY INFORMATION:

Title; Associated Form; and OMB Number: Homer Small Boat Harbor Vessel Survey; OMB Control Number 0710-HSBH.

Needs and Uses: The Alaska District of the Corps of Engineers is currently conducting a general investigation into the feasibility of building a second harbor in Homer, Alaska. The small boat harbor which exists there currently is overcrowded, and enlarging it is not feasible given the geography of the area. This project would be intended to reduce delays and safety risks resultant from overcrowding by building a second harbor adjacent to the existing one. The purpose of this survey is to collect data crucial to estimate delay times and associated costs in the existing conditions upon which formulated alternative plans will be compared. The data collected will also inform benefits associated with project alternatives. This data collection is essential for development of an accurate model because there is no readily available data on vessel movement patterns or delays in Alaskan small boat harbors, which are generally multi-use, serving commercial and subsistence fishing, freight, recreational boaters, and others. Many of these boats do not have Automatic Identification System transponders and harbors do not keep data on vessel movements or delays.

Affected Public: Business or other for-profit; individuals or households.

Annual Burden Hours: 1,313.

Number of Respondents: 1,750.

Responses per Respondent: 1.

Annual Responses: 1,750.

Average Burden per Response: 45 minutes.

Frequency: Once.

Dated: April 19, 2024.
Aaron T. Siegel,
Alternate OSD Federal Register Liaison Officer, Department of Defense.

[FR Doc. 2024-08859 Filed 4-24-24; 8:45 am]

BILLING CODE 6001-FR-P